LEGAL SERVICES CORPORATION

Sunshine Act Meeting of the Board of Directors

Time and Date: The Board of Directors of the Legal Services Corporation will meet on November 23, 2009 via conference call. The meeting will begin at 2 p.m. (ET), and continue until conclusion of the Board's agenda.

Location: 3333 K Street, NW., Washington, DC 20007—3rd Floor Conference Center.

Status of Meeting: Open. Directors will participate by telephone conference in such a manner as to enable interested members of the public to hear and identify all persons participating in the meeting. Members of the public wishing to observe the meeting may do so by joining participating staff at the location identified above. Members of the public wishing to listen to the meeting by telephone should call 202.295.1626 to obtain access information to the meeting. To enhance the quality of your listening experience as well as that of others and to eliminate background noises that interfere with the audio recording of the proceedings, please mute your telephone during the meeting.

Matters To Be Considered

1. Approval of the agenda.

2. Consider and act on Board of Directors' response to the Inspector General's Semiannual Report to Congress for the period of April 1, 2009 through September 30, 2009.

3. Public comment.

4. Consider and act on other business.

Contact Person for Information: Katherine Ward, Executive Assistant to the Vice President & General Counsel, at (202) 295-1500. Questions may be sent electronic mail to FR_NOTICE_QUESTIONS@lsc.gov.

Special Needs: Upon request, meeting notices will be made available in alternate formats to accommodate visual and hearing impairments. Individuals who have a disability and need an accommodation to attend the meeting may notify Katherine Ward (202) 295-1500 or FR_NOTICE_QUESTIONS@lsc.gov.

Dated: November 12, 2009.
Victor M. Fortuno,
Vice President & General Counsel.

[FR Doc. E9-27657 Filed 11-13-09; 4:15 pm]

BILLING CODE 7050-01-P